DEPARTMENT OF ENERGY

Federal Energy Regulatory Commission

Combined Notice of Filings #1

Take notice that the Commission received the following exempt wholesale generator filings:

Docket Numbers: EG24-173-000.

Applicants: Swift Air Solar, LLC.

Description: Swift Air Solar, LLC submits Notice of Self-Certification of Exempt Wholesale Generator Status.

Filed Date: 5/7/2.

Accession Number: 20240507-5124.

Comment Date: 5 p.m. ET 5/28/24.

Take notice that the Commission received the following electric rate filings:

Docket Numbers: ER10-1910-027; ER10-1911-027.

Applicants: Duquesne Power, LLC, Duquesne Light Company.

Description: Response to 04/02/2024, Letter requesting Duquesne Light Company et al. to file additional information within 30 days to assist in processing its 02/03/2023 updated market power analysis for the Northeast region.

Filed Date: 5/2/24.

Accession Number: 20240502-5213.

Comment Date: 5 p.m. ET 5/23/24.

Docket Numbers: ER24-1198-000.

Applicants: Midcontinent Independent System Operator, Inc.

Description: Refund Report: 2024-05-07_SA 4194 Refund Report of NSP-County of Dakota GIA (J1826) to be effective N/A.

Filed Date: 5/8/24.

Accession Number: 20240508-5025.

Comment Date: 5 p.m. ET 5/29/24.

Docket Numbers: ER24-1382-000.

Applicants: Horus Louisiana 1, LLC.

Description: Response to 04/25/2024, Deficiency Letter of Horus Louisiana 1, LLC.

Filed Date: 5/6/24.

Accession Number: 20240506-5162.

Comment Date: 5 p.m. ET 5/28/24.

Docket Numbers: ER24-1477-001.

Applicants: ISO New England Inc., Central Maine Power Company.

Description: Tariff Amendment: ISO New England Inc. submits tariff filing per 35.17(b): Amendment to Original Service Agreement No. LGIA-ISONE/CMP-24-01 to be effective 12/31/9998.

Filed Date: 5/7/24.

Accession Number: 20240507-5110.

Comment Date: 5 p.m. ET 5/28/24.

Docket Numbers: ER24-1915-001.

Applicants: New York Independent System Operator, Inc.

Description: Compliance filing: NYISO Compliance Filing Errata re: Ministerial correction to Ordr2023 Compliance to be effective 5/2/2024.

Filed Date: 5/8/24.

Accession Number: 20240508-5055.

Comment Date: 5 p.m. ET 5/29/24.

Docket Numbers: ER24-1957-000; TS24-3-000.

Applicants: Horus Louisiana 1, LLC, Horus Louisiana 1, LLC.

Description: Request for Temporary Waiver, et al. of Horus Louisiana 1, LLC.

Filed Date: 5/7/24.

Accession Number: 20240507-5087.

Comment Date: 5 p.m. ET 5/28/24.

Docket Numbers: ER24-1959-000.

Applicants: PJM Interconnection, L.L.C.

Description: 205(d) Rate Filing: Notice of Cancellation of WMPA No. 5860, Queue No. AF2-099 to be effective 7/8/2024.

Filed Date: 5/8/24.

Accession Number: 20240508-5022.

Comment Date: 5 p.m. ET 5/29/24.

Docket Numbers: ER24-1960-000.

Applicants: Midcontinent Independent System Operator, Inc.

Description: 205(d) Rate Filing: 2024-05-08_SA 4284 Ameren IL-Archtop Property Management GIA (S1040) to be effective 4/25/2024.

Filed Date: 5/8/24.

Accession Number: 20240508-5044.

Comment Date: 5 p.m. ET 5/29/24.

Docket Numbers: ER24-1961-000.

Applicants: Southwest Power Pool, Inc.

Description: 205(d) Rate Filing: 4260 Pixley II Solar Energy & ITCGP Facilities Service Agr to be effective 7/7/2024.

Filed Date: 5/8/24.

Accession Number: 20240508-5049.

Comment Date: 5 p.m. ET 5/29/24.

Docket Numbers: ER24-1962-000.

Applicants: EnerSmart Los Coches BESS LLC.

Description: Tariff Amendment: Notice of Cancellation of Market-Based Rate Tariff to be effective 5/9/2024.

Filed Date: 5/8/24.

Accession Number: 20240508-5051.

Comment Date: 5 p.m. ET 5/29/24.

Docket Numbers: ER24-1963-000.

Applicants: PJM Interconnection, L.L.C.

Description: 205(d) Rate Filing: Notice of Cancellation of ISA No. 5564 & CSA No. 5565, AA2-161/AE2-137 to be effective 7/8/2024.

Filed Date: 5/8/24.

Accession Number: 20240508-5061.

Comment Date: 5 p.m. ET 5/29/24.

Docket Numbers: ER24-1964-000.

Applicants: PJM Interconnection, L.L.C.

Description: Tariff Amendment: Cancellation of WMPA, SA No. 5855; AF2-100 to be effective 7/8/2024.

Filed Date: 5/8/24.

Accession Number: 20240508-5090.

Comment Date: 5 p.m. ET 5/29/24.

Docket Numbers: ER24-1965-000.

Applicants: PJM Interconnection, L.L.C.

Description: Tariff Amendment: Cancellation of WMPA, SA No. 5821; AF2-101 to be effective 7/8/2024.

Filed Date: 5/8/24.

Accession Number: 20240508-5093.

Comment Date: 5 p.m. ET 5/29/24.

Docket Numbers: ER24-1966-000.

Applicants: Central Maine Power Company.

Description: 205(d) Rate Filing: Second Amended Continuing Site/Interconnection Agreement to be effective 7/8/2024.

Filed Date: 5/8/24.

Accession Number: 20240508-5112.

Comment Date: 5 p.m. ET 5/29/24.

Docket Numbers: ER24-1967-000.

Applicants: Rochester Gas and Electric Corporation, New York Independent System Operator, Inc.

Description: 205(d) Rate Filing: Rochester Gas and Electric Corporation submits tariff filing per 35.13(a)(2)(iii: RG&E Section 205 filing re: transmission rate incentives to be effective 7/8/2024.

Filed Date: 5/8/24.

Accession Number: 20240508-5120.

Comment Date: 5 p.m. ET 5/29/24.

Docket Numbers: ER24-1968-000.

Applicants: New York Independent System Operator, Inc., New York State Electric & Gas Corporation.

Description: 205(d) Rate Filing: New York Independent System Operator, Inc. submits tariff filing per 35.13(a)(2)(iii: NYSEG Section 205 filing re: transmission rate incentives to be effective 7/8/2024.

Filed Date: 5/8/24.

Accession Number: 20240508-5123.

Comment Date: 5 p.m. ET 5/29/24.

Take notice that the Commission received the following public utility holding company filings:

Docket Numbers: PH24-10-000.

Applicants: Unison Energy, LLC, Hunt Companies, Inc., AIM Universal Holdings, LLC.

Description: Unison Energy, LLC, et al., submit FERC 65-A Exemption Notification.

Filed Date: 5/8/24.

Accession Number: 20240508-5041.

Comment Date: 5 p.m. ET 5/29/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 8, 2024.
Debbie-Anne A. Reese,
Acting Secretary.

[FR Doc. 2024-10551 Filed 5-14-24; 8:45 am]

BILLING CODE 6717-01-P